DEPARTMENT OF DEFENSE

Department of the Army, Corps of Engineers

Notice of Intent To Prepare an Environmental Impact Statement and Conduct Scoping Meeting for the Pier Wind Terminal Development Project at the Port of Long Beach, City of Long Beach and County of Los Angeles, California (SPL-2023-00720)

AGENCY: U.S. Army Corps of Engineers, DoD.

ACTION: Notice of intent.

SUMMARY: The purpose of this notice is to initiate the scoping process for preparation of a joint Environmental Impact Statement (EIS)/Environmental Impact Report (EIR) for the Port of Long Beach (Port) Pier Wind Terminal Development Project.

DATES: Submit comments concerning this notice on or before February 6, 2024. An in-person public scoping meeting will be held on January 10, 2024, starting at 6 p.m. PST. An in-person open house will be held from 5-6 p.m. PST.

ADDRESSES: The public scoping meeting will be held in the Bob Foster Civic Chambers, adjacent to the Port of Long Beach Administration Building, in the Long Beach Civic Center at 411 W. Ocean Blvd., Long Beach, California 90802. The open house will be held at the Port of Long Beach Administration Building, 415 W. Ocean Blvd., Long Beach, California 90802. Email written comments concerning this notice to: Lisa Mangione, U.S. Army Corps of Engineers, Los Angeles District, Regulatory Division, lisa.mangione@usace.army.mil. Comment emails should include the commenter's email, the project title, and the USACE file number (SPL-2023-00720) in the subject line.

FOR FURTHER INFORMATION CONTACT: Lisa Mangione, U.S. Army Corps of Engineers, Los Angeles District, Regulatory Division, (805) 585-2150, lisa.mangione@usace.army.mil.

SUPPLEMENTARY INFORMATION: In accordance with the National Environmental Policy Act (NEPA), 42 U.S.C. 4321 et seq., the USACE is requiring the preparation of an EIS prior to making a permit decision for the proposed Project. The USACE may ultimately make a determination to permit or deny the proposed Project or a modified version of the proposed Project. The primary Federal concerns are dredging, dredged material disposal, addition of permanent structures in and over navigable waters of the U.S. and transport of dredged material for the purpose of ocean disposal.

Pursuant to the California Environmental Quality Act (CEQA), Cal. Pub. Res. Code section 21000 et seq., the City of Long Beach Harbor Department (Port of Long Beach or Port) will serve as the CEQA Lead Agency in preparing the EIR for its consideration of development approvals within its jurisdiction. The USACE and Port have agreed to jointly prepare a Draft EIS/EIR to optimize efficiency and avoid duplication. The Draft EIS/EIR is intended to be sufficient in scope to address the Federal, State, and local requirements and environmental issues concerning the proposed activities and permit approvals.

1. Project Site and Background Information. The proposed Project site is located in the Southwest Long Beach Harbor Planning District (District 6) in the Outer Harbor, south of the Navy Mole and West Basin, east of the Port of Los Angeles Pier 400, north of the Federal breakwater, and west of the Main Channel within the Port of Long Beach. The site is located in the City of Long Beach and County of Los Angeles and adjacent to the communities of San Pedro and Wilmington. The purpose of the proposed Project is to develop a terminal at the Port for receiving, staging, and storing wind turbine generator (WTG) components (tower sections, nacelles, and blades), and foundation sub-assemblies; performing final assembly of floating foundations, and integrating WTG components with the floating foundation to create floating offshore wind (OSW) turbine systems (proposed Project). The proposed Project would enable the State of California and Federal Government to address the global climate crisis and decarbonization of energy resources by supporting the establishment of wind farms off the west coast shores of the United States.

2. Proposed Project. The Port, acting by and through its Board of Harbor Commissioners, proposes to construct a 400-acre terminal and 30-acre transportation corridor for receiving, staging, and storing wind turbine generator (WTG) components, and foundation sub-assemblies, performing final assembly of floating foundations, and integrating WTG components with the floating foundation to create floating offshore wind (OSW) turbine systems. The terminal and transportation corridor would be located in the Southwest Harbor Planning District (District 6) at the Port of Long Beach just south of the Navy Mole, east of Port of Los Angeles Pier 400, north of the Federal breakwater, and west of the Main Channel. The proposed Project would construct new land at the Port that would best meet the land requirements for waterfront facilities necessary for efficient staging, integration, floating foundation assembly, and maintenance of large floating OSW turbine systems as specified in the California State Lands Commission 2023 AB 525 Port Readiness Plan. In-water construction activities would include approximately 50 million cubic yards (CY) of dredging (for fill material and surcharge), construction of rock revetment dikes, and construction of a terminal wharf, sinking basin, wet storage areas, and concrete piers adjacent to the transportation corridor. Onshore construction would include grading and compaction, surfacing, transportation corridor improvements, and installation of utilities and signage. It is estimated that construction activities would start in 2027 and last a total of 9 years, construction completed in phases and operations starting in 2031. Overall construction is expected to be completed in 2035.

3. Proposed Federal Action. Because construction of the proposed Project would result in a discharge of dredged and/or fill material into waters of the United States, would place structures in navigable waters of the United States, or consist of work in or affecting navigable waters of the United States, and would transport dredged or fill material by vessel or other vehicle for the purpose of dumping the material into ocean waters, USACE authorization is required pursuant to section 404 of the Clean Water Act (33 U.S.C. 1344; 33 CFR parts 323 and 330), section 10 of the Rivers and Harbors Act (33 U.S.C. 403), and section 103 of the Marine Protection, Research and Sanctuaries Act of 1972 (33 U.S.C. 1413). Review of and decision on, the permit applications by the USACE constitutes the proposed Federal action (Proposed Federal Action).

4. Issues. Potentially significant issues associated with the proposed Project may include: aesthetics/visual impacts, air quality and greenhouse gas emissions, biological resource impacts, cultural and tribal cultural resources, energy, geologic impacts related to seismicity, hazards and hazardous materials, hydrology and water quality, land use and planning, noise, population and housing, public services, recreation, transportation, utilities and service systems, environmental justice, socioeconomics, and cumulative impacts from past, present, and reasonably foreseeable future projects.

5. Alternatives. Multiple alternatives to the proposed Project are under consideration, including: No Federal Action (NEPA)/No Project (CEQA), 400-acre terminal with a standard construction schedule, smaller terminal, larger terminal, alternate locations in California, single-lift dike only, and utilization of Pier S. Additional alternatives that may be developed during scoping will also be considered in the Draft EIS/EIR.

6. Scoping Process. The USACE and Port will jointly conduct two public scoping meetings to receive public comment regarding the appropriate scope and content of the Draft EIS/EIR. Participation by Federal, State, and local agencies, tribal nations, and other interested organizations and persons is encouraged. The scoping meeting will be recorded and posted on the Port's website (https://www.polb.com/ceqa). The scoping meeting will be conducted in English with interpretation for other languages provided upon request. If you require interpretation services to participate in the scoping meeting, please contact the Port of Long Beach Environmental Planning Division at (562) 283-7100 or via email at ceqa@polb.com at least three full working days (72 hours) prior to the public scoping meeting date to ensure that reasonable arrangements can be made to provide interpretation services. Americans with Disabilities Act: The Port of Long Beach provides reasonable accommodations in accordance with the Americans with Disabilities Act of 1990. If special accommodations are needed to participate in the public scoping meeting, please contact the Port of Long Beach Environmental Planning Division at (562) 283-7100 or via email at ceqa@polb.com at least three full working days (72 hours) prior to the scoping meeting date to ensure reasonable arrangements can be made.

7. Electronic Access and Filing Addresses. Comments may be submitted by electronic mail (email) to: lisa.mangione@usace.army.mil. Electronic mail comments should include the commenter's physical or electronic mailing address, the project title, and the Corps file number (SPL-2023-00720).

8. Availability for Public Comment. The Draft EIS/EIR is expected to be available for public review and comment in early 2025, and a public meeting will be held after its publication.

David R. Hibner,
Programs Director.

[FR Doc. 2023-27867 Filed 12-18-23; 8:45 am]

BILLING CODE 3720-58-P